COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List services to be furnished by nonprofit agencies employing persons who are blind or have other severe disabilities.

DATES: Effective Date: September 28, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On June 20 and June 27, 2008, the Committee for Purchase From People Who Are Blind or Severely Disabled published notice (73 FR 35119; 36492) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Vehicle Maintenance Services, Aberdeen Proving Ground, 4118 Susquehanna Ave, Aberdeen, MD.

NPA: PRIDE Industries, Roseville, CA.

Contracting Activity: General Services Administration, Federal Supply Service, Region 3 (3FPU), Philadelphia, PA.

Service Type/Location: Custodial Services, U.S. Coast Guard, Industrial Support Detachment (ISD) Building, 110 Mount Elliott Street, Detroit, MI.

NPA: New Horizons Rehabilitation Services, Inc., Auburn Hills, MI.

Contracting Activity: Department of Homeland Security, U.S. Coast Guard—Integrated Support Command (ISC), Cleveland, OH.

Service Type/Location: Medical Transcription, VA Southern Nevada Healthcare System, 2455 West Cheyenne Avenue, Las Vegas, NV.

NPA: National Telecommuting Institute, Inc., Boston, MA.

Contracting Activity: Department of Veterans Affairs, VISN 22 Network Business Center, Long Beach, CA.

Service Type/Location: Custodial Services, Grand Prairie Army Reserve Complex, Buildings 7900; 8070 and 8100, Grand Prairie, TX.

NPA: Goodwill Industrial Services of Fort Worth, Inc., Fort Worth, TX.

Contracting Activity: Army Reserve Contracting Center, 90th Regional Support Command, North Little Rock, AR.

Service Type/Location: Warehousing & Distribution Service, Naval Base Kitsap—Fleet and Industrial Supply Center (FISC), Bremerton, WA.

Service Type/Location: Warehousing & Distribution Service, Navy Undersea Warfare Center (NUWC) Division, Keyport, WA.

Service Type/Location: Warehousing & Distribution Service, Puget Sound Naval Shipyard (PSNS) and Intermediate Maintenance Facility (IMF) Submarine Base, Bangor, WA.

NPA: Skookum Educational Programs, Bremerton, WA.

Contracting Activity: Fleet and Industrial Supply Center, Bremerton, WA.

Service Type/Location: Janitorial Services at Army/Navy Recruiting Office, Recruiting Station Army/Navy, 98-151 Pali Momi Street, Aiea, HI.

Service Type/Location: Janitorial Services at Air Force/Marine Corps Recruit, Recruiting Station 2, Air Force/Marine Corps, 98-151 Pali Momi Street, Aiea, HI.

Service Type/Location: Janitorial Services at Air Force Reserve Center, Recruiting Station 3 Air Force Reserve Center, 98-145 Kaonohi Street, Aiea, HI.

Service Type/Location: Janitorial Service at Army/Navy/Marines/AF Recruiting, Recruiting Station 4 Army/Navy/Marines/AF, 45-480 Kaneohe Bay Drive, Kaneohe, HI.

Service Type/Location: Janitorial Services at Army Recruiting Office, Recruiting Station 5 Army, 95-1249 Meheula Parkway, Mililani, HI.

NPA: Goodwill Contract Services of Hawaii, Inc., Honolulu, HI.

Contracting Activity: U.S. Army Engineering Division, Contracting Division, Honolulu, HI.

This action does not affect current contracts awarded prior to the effective date of this addition or options that may be exercised under those contracts.

Kimberly M. Zeich,
Director, Program Operations.

[FR Doc. E8-20150 Filed 8-28-08; 8:45 am]

BILLING CODE 6353-01-P